DEPARTMENT OF HOMELAND SECURITY

Coast Guard

33 CFR Part 165

[Docket Number USCG-2013-0330]

RIN 1625-AA00

Safety Zone, Shallowbag Bay; Manteo, NC; Correction

AGENCY: Coast Guard, DHS.

ACTION: Temporary final rule; correction.

SUMMARY: The Coast Guard published a temporary final rule in the Federal Register on July 5, 2013 (78 FR 40394), establishing a safety zone in Shallowbag Bay in Manteo, NC. This document corrects the temporary section number to be assigned to the temporary regulation, and also corrects the effective date to indicate that effective period ends after the corresponding event is concluded.

DATES: This correction is effective from September 13, 2013 until 10 p.m. October 4, 2013.

FOR FURTHER INFORMATION CONTACT: CWO4 Joseph M. Edge, Sector North Carolina Waterways Management, Coast Guard; telephone (252) 247-4525, email Joseph.M.Edge@uscg.mil.

SUPPLEMENTARY INFORMATION:

A. Background

On October 4, 2013 fireworks will be launched from a barge located in Shallowbag Bay in Manteo, North Carolina as part of the Outer Banks Bluegrass Festival. The temporary safety zone created by this rule is necessary to ensure the safety of vessels and spectators from hazards associated with the fireworks display. Such hazards include obstructions to the waterway that may cause death, serious bodily harm, or property damage, as well as the accidental discharge of fireworks, dangerous projectiles, and falling hot embers or other debris. Establishing a safety zone to control vessel movement around the location of the launch area will help ensure the safety of persons and property in the vicinity of this event and help minimize the associated risks.

B. Need for Correction

The Coast Guard published a document in the Federal Register on July 5, 2013, for this temporary safety zone (78 FR 40394). In that document it was incorrectly mentioned to add temporary § 165.T05-0494. The correct entry should have read to add § 165.T05-0330. This document, and the List of Subjects below, corrects that discrepancy.

List of Subjects in 33 CFR Part 165

Harbors, Marine safety, Navigation (water), Reporting and recordkeeping requirements, Security measures, and Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 46 U.S.C. Chapter 701, 3306, 3703; 50 U.S.C. 191, 195; 33 CFR 1.05-1, 6.04-1, 6.04-6, 160.5; Pub. L. 107-295, 116 Stat. 2064; Department of Homeland Security Delegation No. 0170.1.

2. Add temporary § 165.T05-0330 to read as follows:

§ 165.T05-0330 Safety Zone, Shallowbag Bay; Manteo, NC.

(a) Definitions. For the purposes of this section, Captain of the Port means the Commander, Sector North Carolina. Representative means any Coast Guard commissioned, warrant, or petty officer who has been authorized to act on the behalf of the Captain of the Port.

(b) Location. The following area is a safety zone: This safety zone will encompass all waters on Shallowbag Bay within a 200 yard radius of a barge anchor in position 35°54′31″ N, longitude 075°39′42″ W. All geographic coordinates are North American Datum 1983 (NAD 83).

(c) Regulations. (1) The general regulations contained in § 165.23 of this part apply to the area described in paragraph (b) of this section.

(2) Persons or vessels requiring entry into or passage through any portion of the safety zone must first request authorization from the Captain of the Port, or a designated representative, unless the Captain of the Port previously announced via Marine Safety Radio Broadcast on VHF Marine Band Radio channel 22 (157.1 MHz) that this regulation will not be enforced in that portion of the safety zone. The Captain of the Port can be contacted at telephone number (910) 343-3882 or by radio on VHF Marine Band Radio, channels 13 and 16.

(d) Enforcement. The U.S. Coast Guard may be assisted in the patrol and enforcement of the zone by Federal, State, and local agencies.

(e) Enforcement period. This section will be enforced from 8 p.m. to 10 p.m. on October 4, 2013 unless cancelled earlier by the Captain of the Port.

Dated: August 8, 2013.
S.R. Murtagh,
Captain, U.S. Coast Guard, Captain of the Port North Carolina.

[FR Doc. 2013-21926 Filed 9-12-13; 8:45 am]

BILLING CODE 9110-04-P